Proclamation 9303 of July 24, 2015

National Korean War Veterans Armistice Day, 2015

By the President of the United States of America

A Proclamation

Throughout history, the United States has stood as a powerful force for freedom and democracy around the world. In the face of tyranny and oppression, generations of patriots have fought to secure peace and prosperity far from home. And in 1950, as Communist armies crossed the 38th parallel just 5 years after the end of World War II, courageous Americans deployed overseas once again to stand with a people they had never met in defense of a cause in which they both believed. On National Korean War Veterans Armistice Day, we honor all those who sacrificed for freedom's cause throughout 3 long years of war, and we reaffirm our commitment to the security of the Republic of Korea and the values that unite our nations.

Often outnumbered and outgunned, nearly 1.8 million Americans fought through searing heat and piercing cold to roll back the tide of Communism. The members of our Armed Forces endured some of the most brutal combat in modern history; many experienced unimaginable torment in POW camps, and nearly 37,000 gave their last full measure of devotion. Their sacrifice pushed invading armies back across the line they had dared to cross and secured a hard-earned victory.

The Korean War reminds us that when we send our troops into battle, they deserve the support and gratitude of the American people—especially once they come home. We must make it our mission to serve all our veterans as well as they have served us, always giving them the respect, care, and opportunities they have earned. And we will never stop working to fulfill our obligations to our fallen heroes and their families. To this day, more than 7,800 Americans are still missing from the Korean War, and the United States will not rest until we give these families a full accounting of their loved ones.

Today, the Republic of Korea enjoys a thriving democracy and a bustling economy, and the legacy of our Korean War veterans continues on in the 50 million South Koreans who live with liberty and opportunity. The United States is proud to stand with our partner in Asian security and stability, and our commitment to our friend and ally will never waver—a promise embodied by our servicemen and women who fought from the Chosin Reservoir to Heartbreak Ridge and Pork Chop Hill, and by every American since who has stood sentinel on freedom's frontier.

No war should ever be forgotten, and no veteran should ever be overlooked. Today, on the anniversary of the Military Armistice Agreement that ended the Korean War, let us remember how liberty held its ground in the face of tyranny and how free peoples refused to yield. And most of all, let us give thanks to all those whose service and sacrifice helped to secure the blessings of freedom.

NOW, THEREFORE, I, BARACK OBAMA, President of the United States of America, by virtue of the authority vested in me by the Constitution and the laws of the United States, do hereby proclaim July 27, 2015, as National Korean War Veterans Armistice Day. I call upon all Americans to observe this day with appropriate ceremonies and activities that honor our distinguished Korean War veterans.

IN WITNESS WHEREOF, I have hereunto set my hand this twenty-fourth day of July, in the year of our Lord two thousand fifteen, and of the Independence of the United States of America the two hundred and fortieth.

[FR Doc. 2015-18791

Filed 7-28-15; 11:15 am]

Billing code 3295-F5